DEPARTMENT OF AGRICULTURE

Notice of Proposed Additional Information Collection: Advisory Committee and Research and Promotion Background Information

AGENCY: Office of the Secretary, USDA.

ACTION: Revision and request for comments.

SUMMARY: In accordance with the Paperwork Reduction Act of 1995 (44 U.S.C. chapter 35), this notice announces the U.S. Department of Agriculture's (USDA) intention to request a revision to a currently approved information collection of the Advisory Committee and Research and Promotion Background Information to include Race, Ethnicity, National Origin, Gender and Disability Status.

DATES: Comments on this notice must be received by August 15, 2011 to be assured of consideration.

Additional Information or Comments: Contact Sherry Taylor, Office of the Secretary, White House Liaison Office, U.S. Department of Agriculture, 1400 Independence Ave., SW., the Whitten Building, Room 507-A, Mail Stop-0112, Washington, DC 20250; office phone: 202-720-2406 or fax: 202-720-9286; e-mail: USDAappointmentcomments@osec.usda.gov.

SUPPLEMENTARY INFORMATION: Title: Advisory Committee and Research and Promotion Background Information.

OMB Number: 0505-0001.

Expiration Date of Approval: July 31, 2012.

Type of Request: Revision of a currently approved information collection.

Abstract: The primary objective is to determine the qualifications, suitability and availability of a candidate to serve on advisory committees and/or research and promotion boards. The information will be used to both conduct background clearances on the candidates to the boards and committees and to compile annual reports on committee members.

Estimate of Burden: Public reporting burden for this collection of information is estimated to average 30 minutes per response.

Respondents: Individuals or households.

Estimated Number of Respondents: 2300.

Estimated Number of Responses per Respondent: 1.

Estimated Total Annual Burden on Respondents: 1150.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to Sherry Taylor, Office of the White House Liaison, 1400 Independence Avenue, SW., the Whitten Building, Room 507-A, Washington, DC 20250; fax: 202-720-9286; or e-mail: USDAappointmentcomments@osec.usda.gov. Comments submitted by mail must be postmarked 10 business days prior to the deadline to ensure timely receipt.

All comments received will be available for public inspection during regular business hours at the same address.

All responses to this notice will be summarized and included in the request for OMB approval. All comments will become a matter of public record.

Signed in Washington, DC on May 31, 2011.
Thomas J. Vilsack,
Secretary of Agriculture.

[FR Doc. 2011-14703 Filed 6-13-11; 8:45 am]

BILLING CODE P